DEPARTMENT OF EDUCATION

Office of Postsecondary Education; Overview Information; Gaining Early Awareness and Readiness for Undergraduate Programs (GEAR UP); Notice Inviting Applications for New Awards for Fiscal Year (FY) 2005

Catalog of Federal Domestic Assistance (CFDA) Numbers: 84.334A (Partnership grants) and 84.334S (State grants).

Dates: Applications Available: February 23, 2005.

Deadline for Transmittal of Applications: April 11, 2005.

Deadline for Intergovernmental Review: June 22, 2005.

Eligible Applicants: (1) A state; or (2) a partnership consisting of (A) one or more local educational agencies acting on behalf of (i) one or more elementary schools or secondary schools, and (ii) the secondary schools that students from the schools described in (i) would normally attend; (B) one or more degree granting institutions of higher education; and (C) at least two community organizations or entities, such as businesses, professional associations, community-based organizations, philanthropic organizations, State agencies, institutions or agencies sponsoring programs authorized under subpart 4 of Part A of Title IV of the Higher Education Act of 1965, or other public or private agencies or organizations.

Note: For Partnership grants, the fiscal agent/applicant must be either an institution of higher education that is not pervasively sectarian or a local education agency. For State grants, the fiscal agent/applicant must be a single State agency as designated by the State's governor.

Estimated Available Funds: $113,189,000 for new partnership grants and $74,276,000 for new state grants.

Estimated Range of Awards: $100,000-$7,000,000 per year for partnership grants and $500,000-$3,500,000 per year for state grants.

Estimated Average Size of Awards: $501,000 per year for partnership grants and $3,000,000 per year for state grants.

Maximum Award: We will reject any application for a partnership grant that proposes a budget exceeding $800 per student for a single budget period of 12 months. We will reject any application for a state grant that proposes a budget exceeding $3,500,000 for a single budget period of 12 months. We also will reject any partnership or state grant application that proposes a budget that increases after the first 12-month budget period. The Assistant Secretary for Postsecondary Education may change the maximum amount through a notice published in the Federal Register.

Estimated Number of Awards: 226 Partnership grants and 24 State grants.

Note: The Department is not bound by any estimates in this notice.

Project Period: Up to 72 months.

Full Text of Announcement

I. Funding Opportunity Description

Purpose of Program: GEAR UP supports early college preparation and awareness activities for low-income students.

Program Authority: 20 U.S.C. 1070a-21.

Applicable Regulations: (a) The Education Department General Administrative Regulations (EDGAR) in 34 CFR parts 74, 75, 77, 79, 80, 81, 82, 84, 85, 86, 97, 98, and 99. (b) The regulations for this program in 34 CFR part 694.

Note: The regulations in 34 CFR part 79 apply to all applicants except federally recognized Indian tribes.

Note: The regulations in 34 CFR part 86 apply to institutions of higher education only.

II. Award Information

Type of Award: Discretionary grants.

Estimated Available Funds: $113,189,000 for new partnership grants and $74,276,000 for new state grants.

Estimated Range of Awards: $100,000-$7,000,000 per year for partnership grants and $500,000-$3,500,000 per year for state grants.

Estimated Average Size of Awards: $501,000 for partnership grants and $3,000,000 per year for state grants.

Maximum Award: We will reject any application for a partnership grant that proposes a budget exceeding $800 per student for a single budget period of 12 months. We will reject any application for a State grant that proposes a budget exceeding $3,500,000 for a single budget period of 12 months. We also will reject any partnership or state grant application that proposes a budget that increases after the first 12-month budget period. The Assistant Secretary for Postsecondary Education may change the maximum amount through a notice published in the Federal Register.

Estimated Number of Awards: 226 Partnership grants and 24 State grants.

Note: The Department is not bound by any estimates in this notice.

Project Period: Up to 72 months.

III. Eligibility Information

1. Eligible Applicants: (1) A State; or (2) a partnership consisting of (A) one or more local educational agencies acting on behalf of (i) one or more elementary schools or secondary schools, and (ii) the secondary schools that students from the schools described in (i) would normally attend; (B) one or more degree granting institutions of higher education; and (C) at least two community organizations or entities, such as businesses, professional associations, community-based organizations, philanthropic organizations, State agencies, institutions or agencies sponsoring programs authorized under subpart 4 of Part A of Title IV of the Higher Education Act of 1965, or other public or private agencies or organizations.

Note: For Partnership grants, the fiscal agent/applicant must be either an institution of higher education that is not pervasively sectarian or a local education agency. For State grants, the fiscal agent/applicant must be a single State agency as designated by the State's Governor.

2. Cost Sharing or Matching: Section 404C of the Higher Education Act of 1965, as amended, requires grant recipients to provide not less than 50 percent of the total cost of the project for each year of the project. A partnership with three or fewer institutions of higher education as members may propose a non-Federal contribution of less than 50 percent, but not less than 30 percent of the total cost of the project for each year of the project. The non-Federal share of project costs may be in cash or in-kind. Applicants will be held to the matching commitment proposed in the application for funding, even if the proposed match is higher than the percent required by statute.

3. Other: For State grants, at least 25 percent, and not more than 50 percent of grant funds must be spent on early college preparation and awareness, and at least 50 percent of grant funds must be spent on postsecondary scholarships to eligible GEAR UP students. The Secretary may waive the scholarship percentage requirement if the applicant demonstrates that it has another means of providing the students with financial assistance the program otherwise requires.

IV. Application and Submission Information

1. Address to Request Application Package: You may obtain an application package via the Internet by downloading the package from the program Web site at: http://www.ed.gov/programs/gearup/index.html.

You also may obtain a copy of the application package at the following address: Angela Oliphant, Gaining Early Awareness and Readiness for Undergraduate Programs, U.S. Department of Education, 1990 K Street, NW., suite 6100, Washington, DC 20006-8524. Telephone: (202) 502-7676.

If you use a telecommunications device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

Page Limit: The application narrative addresses the selection criteria that reviewers use to evaluate your application. You must limit the application narrative found in Part 4 of the application to the equivalent of no more than 40 pages, using the following standards:

• A “page” is 8.5″ x 11″, on one side only, with 1″ margins at the top, bottom, and both sides.

• Double space all text in the application narrative, including titles, headings, footnotes, quotations, references, and captions, as well as all text in charts, tables, figures, and graphs.

• Use a font that is either 12-point or larger and no smaller than 10 pitch (characters per inch).

The page limit does not apply to the cover sheet; the budget section, including the narrative budget justification; the assurances and certifications; or the one-page abstract, the resumes, the bibliography, or the letters of support.

We will reject your application if—

• You apply these standards and exceed the page limit; or

• You apply other standards and exceed the equivalent of the page limit.

3. Submission Dates and Times:

Applications Available: February 23, 2005.

Deadline for Transmittal of Applications: April 11, 2005.

Applications for grants under this program must be submitted electronically using the Electronic Grant Application System (e-Application) available through the Department's e-Grants system. For information (including dates and times) about how to submit your application electronically or by mail or hand delivery if you qualify for an exception to the electronic submission requirement, please refer to Section IV. 6. Other Submission Requirements in this notice.

Deadline for Intergovernmental Review: June 22, 2005.

4. Intergovernmental Review: These programs are subject to Executive Order 12372 and the regulations in 34 CFR part 79. Information about Intergovernmental Review of Federal Programs under Executive Order 12372 is in the application packages for these programs.

5. Funding Restrictions: We reference regulations outlining funding restrictions in the Applicable Regulations section of this notice.

6. Other Submission Requirements: Applications for grants under these programs must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications:. Applications for grants under the GEAR UP Program—CFDA Numbers 84.334A and 84.334S must be submitted electronically using e-Application available through the Department's e-Grants system. The e-Grants system is accessible through its portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site is 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the GEAR UP Title Page Form, Project Budget Summary Forms and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement, that will include a PR/Award number (an identifying number unique to your application).

• Within three working days after submitting your electronic application, fax a signed copy of the GEAR UP Title Page Form to the Application Control Center after following these steps:

(1) Print the GEAR UP Title Page Form from e-Application.

(2) The applicant's Authorizing Representative must sign this form.

(3) Place the PR/Award number in the upper right hand corner of the hard-copy signature page of the GEAR UP Title Page Form.

(4) Fax the signed GEAR UP Title Page Form to the Application Control Center at (202) 245-6272.

• We may request that you give us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an e-Application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under For Further Information Contact (see VII. Agency Contact) or (2) the e-Grants help desk at 1-888-336-8930. If the system is down and therefore the application deadline is extended, an e-mail will be sent to all registered users who have initiated an e-Application. Extensions referred to in this section apply only to the unavailability of the Department's e-Application system.

Exception to the Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Angela Oliphant, U.S. Department of Education, 1990 K Street, NW., suite 6101, Washington, DC 20006-8524. Fax: (202) 502-7675.

Your paper application must be submitted in accordance with the mail or hand delivery instructions described in this notice.

b. Submission of Paper Applications by Mail. If you qualify for an exception the electronic submission requirement, you may mail (through the U.S. Postal Service or a commercial carrier) your application to the Department. You must mail the original and two copies of your application, on or before the application deadline date, to the Department at the applicable following address:

By mail through the U.S. Postal Service: U.S. Department of Education, Application Control Center, Attention: 84.334A or 84.334S (as appropriate), 400 Maryland Avenue, SW., Washington, DC 20202-4260

or

By mail through a commercial carrier: U.S. Department of Education, Application Control Center—Stop 4260, Attention: 84.334A or 84.334S (as appropriate), 7100 Old Landover Road, Landover, MD 20785-1506.

Regardless of which address you use, you must show proof of mailing consisting of one of the following:

(1) A legibly dated U.S. Postal Service postmark;

(2) A legible mail receipt with the date of mailing stamped by the U.S. Postal Service;

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: 84.334A or 84.334S (as appropriate), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—on the GEAR UP Title Page Form the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are inthe application package.

VI. Award Administration Information

1. Award Notices: If your application is successful, we notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The objectives of the GEAR UP program are: (1) To increase the academic performance and preparation for postsecondary education of participating students; (2) to increase the rate of high school graduation and participation in postsecondary education of participating students; and (3) to increase educational expectations for participating students and student and family knowledge of postsecondary education options, preparation, and financing.

To assess the performance of the program in achieving these objectives, the Department has developed a number of performance measures that are included in the application package. All grantees will be expected to submit an annual performance report documenting their success in addressing these performance measures.

VII. Agency Contact

FOR FURTHER INFORMATION CONTACT: Angela Oliphant, Gaining Early Awareness and Readiness for Undergraduate Programs, U.S. Department of Education, 1990 K Street, NW., suite 6100, Washington, DC 20006-8524. Telephone: (202) 502-7676.

If you use a telecommunications device for the deaf (TDD), you may call the Federal Information Relay Service (FIRS) at 1-800-877-3339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 16, 2005.
Sally L. Stroup,
Assistant Secretary for Postsecondary Education.

[FR Doc. 05-3455 Filed 2-22-05; 8:45 am]

BILLING CODE 4000-01-P